DEPARTMENT OF ENERGY

Federal Energy Regulatory Commission

[Docket No. RP03-375-001]

Williston Basin Interstate Pipeline Company; Notice of Compliance Filing

July 1 , 2003.

Take notice that on June 26, 2003, Williston Basin Interstate Pipeline Company (Williston Basin), submitted its filing in compliance with the Commission's Letter Order issued June 20, 2003 in Docket No. RP03-375-000.

Williston Basin states that the instant filing complies with the Commission's Letter Order by removing NAESB Standard 4.3.4 from Subsection 47.2 of its FERC Gas Tariff, Second Revised Volume No. 1 as directed by the Commission.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: July 8, 2003.

Magalie R. Salas,
Secretary.

[FR Doc. 03-17293 Filed 7-8-03; 8:45 am]

BILLING CODE 6717-01-P